PEACE CORPS

Agency Information Collection Under Review by the Office of Management and Budget

AGENCY: Peace Corps.

ACTION: Notice of submission for OMB Review, comment request.

SUMMARY: The Peace Corps has submitted an information collection to the Office of Management and Budget for review under the provisions of the Paperwork Reduction Act of 1995. The Peace Corps Fellows/USA Program Alumni Questionnaire form, OMB Number 0420-0525, to be used by the Peace Corps Fellows/USA Program. The information provided by the respondents is necessary for evaluating the quality of individual programs, for determining whether graduates of education programs have remained in teaching, health and/or community/economic development careers and for seeking future funding. Programmatic information will be disseminated to individual programs and portions of the data collected will be incorporated into grant proposals and reports. Participation in this program also fulfills the third goal of the Peace Corps as required by Congressional legislation and to enhance the Peace Corps Fellows/USA Program. This is a reinstatement of an OMB Control Number, with change, of a previously approved collection for which approval has expired. No comments were received in response to the Peace Corps' earlier Federal Register Notice (June 13, 2001, Volume 66, Number 114, p. 31950 for 60 days).

DATES: Submit comments on or before December 16, 2001.

ADDRESSES: Comments should be addressed to Dr. Cathryn Ballou, Office of Domestic Programs, Peace Corps, 1111 20th Street, NW., Room 2101, Washington, DC 20526.

Dr. Ballou can be contacted by telephone at 202-692-1432 or 800-424-8580 ext 1432 or emailed at cballou@peacecorps.gov. Email comments must be made in text and not in attachments. Comments on the form should also be addressed to the attention of Dr. Ballou.

FOR FURTHER INFORMATION CONTACT: Dr. Cathryn Ballou, Office of Domestic Programs, Peace Corps, 1111 20th Street, NW., Room 2101, Washington, DC 20526. Dr. Ballou can be contacted by telephone at 202-692-1432 or 800-424-8580 ext 1432 or emailed at cballou@peacecorps.gov. Email comments must be made in text and not in attachments. Comments on the form should also be addressed to the attention of Dr. Ballou.

SUPPLEMENTARY INFORMATION: OMB Control Number: 0420-0525.

Title: Peace Corps Fellows/USA Program Alumni Questionnaire Form.

Type of Review: This is a reinstatement of an OMB Control Number, with change, of a previously approved collection for which approval has expired.

Respondents: Public.

Number of Respondents: None.

Need and Uses: This form is completed voluntarily by returned Peace Corps Volunteers who have completed graduate study as part of the Peace Corps Fellows/USA Program. The information provided by the respondents is necessary for evaluating the quality of individual programs, for determining whether graduates of education programs have remained in teaching, health and/or community/economic development careers and for seeking future funding. Programmatic information will be disseminated to individual programs and portions of the data collected will be incorporated into grant proposals and reports. Participation in this program also fulfills the third goal of the Peace Corps as required by Congressional legislation and to enhance the Peace Corps Fellows/USA Program.

This notice is issued in Washington, DC on November 9, 2001.
Judy Van Rest,
Associate Director for Management.

[FR Doc. 02-1548 Filed 1-22-02; 8:45 am]

BILLING CODE 6051-01-M